DEPARTMENT OF ENERGY

Next Generation Lighting Initiative: Commercial Application Activities

AGENCY: Office of Energy Efficiency and Renewable Energy, Department of Energy.

ACTION: Notice of availability.

SUMMARY: The Energy Policy Act of 2005, section 912, established the Next Generation Lighting Initiative, and directed the Department of Energy (DOE or the Department) to “support research, development, demonstration, and commercial application activities related to advanced solid-state lighting technologies based on white light emitting diodes.” In partial fulfillment of the directive to support commercial application activities, the Department has initiated and planned a number of activities. In the interest of informing the public on the scope of the commercial application activities underway and planned, the Department developed a document entitled, “Solid State Lighting: Commercialization Support Pathway.” That document was recently updated, and is now publicly available. The document is printed with this notice.

DATES: “Solid State Lighting: Commercialization Support Pathway,” was first publicly distributed on February 1, 2005. It was subsequently updated and again publicly distributed on February 1, 2006. The document was updated once again on May 22, and is being made publicly available via this notice.

FOR FURTHER INFORMATION CONTACT: James Brodrick, U.S. Department of Energy, Office of Energy Efficiency and Renewable Energy, Program Office EE-2J, 1000 Independence Ave., SW., Washington, DC 20585-0121, (202) 586-1856. E-mail: james.brodrick@ee.doe.gov. Richard Orrison, U.S. Department of Energy, Office of Energy Efficiency and Renewable Energy, Program Office EE-2J, 1000 Independence Ave., SW., Washington, DC 20585-0121, (202) 586-1633. E-mail: richard.orrison@ee.doe.gov.

SUPPLEMENTARY INFORMATION:

Solid-State Lighting: Commercialization Support Pathway

I. SSL R&D Investment Leads to Technology Commercialization

The U.S. Department of Energy has made a long-term commitment to develop and support commercialization of SSL for general illumination, including sources, fixtures, electronics, and controls. In August 2005, President Bush signed the Energy Policy Act of 2005 (EPACT 2005), the first national energy plan in more than a decade. Title IX (Research and Development) of the Energy Act directs the Secretary of Energy to carry out a Next Generation Lighting Initiative (NGLI) to support research, development, demonstration, and commercial application activities for SSL.

The Secretary is also directed to carry out research, development, demonstration, and commercial application activities through competitively selected awards. The EPACT 2005 authorizes $50 million to the NGLI for each fiscal year 2007 through 2009, with extended authorization to allocate $50 million for each of the fiscal years 2010 to 2013. The actual Congressional appropriation for the NGLI will not be determined until fiscal year 2007.

This public R&D investment serves the ultimate goal to successfully commercialize the technologies in the buildings sector, where lighting accounts for more than 20 percent of total electricity use.

Potential benefits are enormous if SSL technology achieves projected price and performance levels:

• By 2025, SSL could displace general illumination light sources such as incandescent and fluorescent lamps, decreasing national energy consumption for lighting by about 0.45 quadrillion Btus (quads) annually, that is, enough energy saved to serve the lighting demand of 20 million households today.

• The cumulative energy expenditure savings from 2005 to 2025 would translate into more than $25 billion dollars saved.

• The cumulative energy savings from 2005 to 2025 is projected to be more than 1.5 quads.

To realize the full promise of solid-state lighting by 2025, major research challenges must be addressed. To help tackle these challenges, DOE is funding selected R&D to improve energy efficiency and speed SSL technologies to market. Projects are selected to align with a comprehensive R&D plan developed in partnership with industry, research and academic organizations, and national laboratories. DOE has and will continue to maintain a focus on the ultimate goal of supporting commercialization of SSL technologies to decrease lighting energy use while improving and expanding lighting services. Unique attributes of SSL technologies underscore the importance of a long-term, coordinated approach encompassing applied research and strategic technology commercialization support.

For most general illumination applications, current white lighting emitting diodes (LEDs) cannot yet compete with traditional light sources on the basis of either performance or cost, but the technology is evolving rapidly. As a result of extensive R&D, the luminous efficacy of white LEDs has approximately doubled in the past three years. The timing and targeting of commercialization support efforts is as important to the ultimate success of SSL as current R&D investment. For this reason, DOE has created a comprehensive commercialization support plan, drawing on a variety of strategies to assist the market introduction of high-quality, energy-efficient SSL technologies.

II. Commercialization Support Strategies

DOE has a long-term vision for commercialization support of SSL technologies. Over the coming years, SSL technologies for general illumination will continue to improve and evolve, with luminous efficacy increasing and unit costs decreasing. Appropriate commercialization support strategies will be determined by the status of the technology relative to particular applications. Beginning in 2005, DOE initiated several activities as part of the long-term plan.

A. Activities in Progress

Partnership With Industry

EPACT 2005 directs DOE to partner, through a competitive selection process, with an industry alliance that represents U.S. SSL research, development, infrastructure, and manufacturing expertise. DOE is directed to solicit alliance assistance in identifying SSL technology needs, assessing the progress of research activities, and updating SSL technology roadmaps. In fulfillment of this directive, DOE signed a Memorandum of Agreement (MOA) with the Next Generation Lighting Industry Alliance (NGLIA) in 2005. Among a number of activities in the MOA, DOE with the Alliance will create criteria for voluntary market conditioning programs, such as ENERGY STAR ® for SSL (see next item). Alliance members include the major US-based manufacturers of LEDs, organic LEDs, components, materials, and systems.

ENERGY STAR® for SSL

DOE has initiated development of ENERGY STAR criteria for white LED-based lighting products intended for general illumination purposes. DOE envisions a two-category criteria, with the first category (Category A) covering a limited number of general illumination niche applications for which white LED systems are appropriate in the near-term, and the second category (Category B) intended to cover a wide range of LED systems for general illumination. Category B will serve as the longer term target for the industry. Initial applications eligible under Category A will include those with the following characteristics: (1) Appropriate for a light source with a directional beam, as opposed to a diffuse source; (2) low to moderate illuminance requirement; (3) illuminated task or surface relatively close to the light source; and (4) potential for cost-effective use of LED-based products in the near term.

Support for Standards Development

Solid state lighting differs fundamentally from incandescent, fluorescent, and HID lighting technologies, in terms of materials, drivers, system architecture, controls, and photometric properties. A host of new or revised test procedures and industry standards is needed to accommodate these technical differences. DOE is engaged in ongoing dialogue with the relevant standards organizations, and is providing technical assistance in the development of new standards.

LED Fixture Design Competition

DOE is one of the organizing sponsors of Lighting for Tomorrow (LFT), along with the American Lighting Association and the Consortium for Energy Efficiency. LFT design competitions in 2004 and 2005 were successful in encouraging, recognizing, and publicizing excellent new designs for energy-efficient residential decorative light fixtures. LFT's 2006 program includes a new competition for LED products in specific general illumination niche applications. Working prototype fixtures will be evaluated by an expert judging panel which will select winners on the basis of lighting quality, energy efficiency, fixture design, and style.

Outreach to Federal Programs

As the largest single purchaser of lighting products in the nation, the federal government can play an important role in demonstrating new technologies. Recently, DOE has provided information to more than 30 federal agencies through presentations to the Federal Utility Partnership Working Group, the Interagency Energy Management Task Force, and the Federal Energy Efficiency Working Group.

Technology Tracking and Information Services

DOE continues to track performance improvement in SSL technology over time. DOE also maintains a database of available white LED-based niche lighting products available in the market. This information is used to support DOE efforts to provide general information about pricing and availability trends of LED products.

Consumer and Business Awareness Programs

DOE is developing informational materials on LED technology and products for a general consumer and business audience. Fact sheets are being disseminated widely. More fact sheets on a wide range of LED topics are in development. Additional information of use to consumers and businesses is available online via DOE's SSL Web site at www.netl.doe.gov/ssl/.

B. Planned Activities

In addition to the activities already underway, DOE is planning a range of other initiatives over the next five years that will support commercialization of SSL technologies and products. These include the following:

Technology Procurements

Technology procurement is an established process for encouraging market introduction of new products that meet certain performance criteria. DOE has employed this approach successfully with other lighting technologies, including sub-CFLs and reflector CFLs. DOE plans to employ technology procurement to encourage new SSL systems and products that meet established energy efficiency and performance criteria, and link these products to volume buyers and market influencers. Volume buyers may include the federal government (FEMP, DLA, GSA), utilities, or various sub-sectors including hospitals, lodging, or retail.

Demonstration and Performance Verification

DOE will develop valuable information from SSL installations in various field applications through demonstration and performance verification, including design and installation issues and measurement of energy consumption, light output, color quality, and interface/control issues.

Technical Information Network

Working with key organizations and companies already involved in providing technical information to the market on energy-efficient technologies (such as energy efficiency organizations, electric utilities, state energy offices, and energy consulting companies), DOE plans to establish a network through which SSL technical information can be efficiently distributed to the market.

University and Professional Education Programs

DOE will support development of training materials and curricula for design professionals, including interior designers, lighting designers, and architects. To support development of the next generation of engineers and designers who will implement SSL, DOE will also support development of teaching materials and related information on SSL technologies for universities.

Issued in Morgantown, WV, on July 17, 2006.
Eddie Christy,
Building and Industrial Technologies Division Director.

[FR Doc. E6-12425 Filed 8-1-06; 8:45 am]

BILLING CODE 6450-01-P